DEPARTMENT OF THE INTERIOR

National Park Service

[NPS-WASO-NAGPRA-NPS0022621]; [PPWOCRADN0-PCU00RP14.R50000]

Notice of Inventory Completion: Metroparks of the Toledo Area, Toledo, OH

AGENCY: National Park Service, Interior.

ACTION: Notice.

SUMMARY: The Metroparks of the Toledo Area (Metroparks Toledo) has completed an inventory of human remains and associated funerary objects, in consultation with the appropriate Indian tribes or Native Hawaiian organizations, and has determined that there is a cultural affiliation between the human remains and associated funerary objects and present-day Indian tribes or Native Hawaiian organizations. Lineal descendants or representatives of any Indian tribe or Native Hawaiian organization not identified in this notice that wish to request transfer of control of these human remains and associated funerary objects should submit a written request to Metroparks Toledo. If no additional requestors come forward, transfer of control of the human remains and associated funerary objects to the lineal descendants, Indian tribes, or Native Hawaiian organizations stated in this notice may proceed.

DATES: Lineal descendants or representatives of any Indian tribe or Native Hawaiian organization not identified in this notice that wish to request transfer of control of these human remains and associated funerary objects should submit a written request with information in support of the request to Metroparks Toledo at the address in this notice by February 13, 2017.

ADDRESSES: Joseph Fausnaugh, Metroparks of the Toledo Area, 5100 West Central Avenue, Toledo, OH 43615, telephone (419) 407-9700, email joe.fausnaugh@metroparkstoledo.com.

SUPPLEMENTARY INFORMATION: Notice is here given in accordance with the Native American Graves Protection and Repatriation Act (NAGPRA), 25 U.S.C. 3003, of the completion of an inventory of human remains and associated funerary objects under the control of Metroparks Toledo, Toledo, OH. The human remains and associated funerary objects were removed from Audubon Island, City of Maumee, Lucas County, OH.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

On behalf of Metroparks Toledo, a detailed assessment of the human remains was made by professional staff of the Ohio History Connection, Columbus, OH, in consultation with representatives of the Eastern Shawnee Tribe of Oklahoma, the Miami Tribe of Oklahoma, the Ottawa Tribe of Oklahoma, the Shawnee Tribe, and the Wyandotte Nation.

History and Description of the Remains

In April and October 2014, human remains representing, at minimum, one individual were removed from 33LU0805 in Lucas County, OH. At the request of the landowner (Metroparks Toledo), on April 10, 2014, Ohio History Connection (OHC) staff recovered human remains and funerary items that were exposed and eroding out of Audubon/Ewing Island in the Maumee River. Members of the Miami and Shawnee nations were present during this excavation. Only the right side of a single individual (approximately 40% of the individual), likely a male between the ages of 17-20 years, was recovered at that time, as the remainder of the burial was stable. Associated funerary items were also recovered. All human remains and associated funerary objects were temporarily transferred to the OHC's laboratory facilities in Columbus for cleaning, cataloging and analysis. Non-artifact remains of water screened soil (rocks and shell) from burial context were retained. Following consultation with the Indian tribes listed above, OHC staff returned to the site on October 1 and 2, 2014, to excavate the remainder of the burial. This follow-up excavation was similarly overseen by representatives of the consulted Indian tribes, and all excavated human remains and associated funerary items were again temporarily transferred to the OHC's laboratory facilities in Columbus, where they were cleaned, cataloged, analyzed, and rejoined with the human remains and associated funerary items that were excavated in April 2014. All human remains and associated funerary items recovered from 33LU0805 are currently being temporarily held at the OHC's Columbus facility on behalf of the Toledo Metroparks.

In total, one individual was identified. No known individuals were identified. The 3,049 associated funerary objects include the following: 1 pan; 2 kettles; 2 arm bands; 1 brooch; 1 glass mirror; 2 musket balls; 1 strike-light; 2 flints; 19 copper coils; 14 tinkler cones; 1 tubular long bead; 517 tubular small beads; 2,130 seed beads; 10 pieces of possible fabric; 2 pieces of charcoal; 37 seeds; 3 stones; 4 rock and shell; 2 light fractions; 1 non-human bone fragment; 11 ceramic sherds; 21 flint flakes; 11 buckshot; 1 rose head nail; 7 brass flakes; 4 clay fragments with vermillion; 1 lot of an unspecified number of corroded iron fragments; 1 otolith; 1 cone; 2 finial-like bone objects; 1 musket ball fragment; 83 wampum beads; 2 unknown material fragments; 1 fixed blade knife with half tang; 1 bone tube; 1 pair of scissors; 1 wooden object; 1 disc-shaped button; 15 perforated triangular brass fragments; 1 iron ring; 1 brass ring; 1 ferrule; 1 silver ring; 6 ferrule fragments; 1 leather bag; 1 sample of a granular substance; 1 sample of vermillion powder; 1 textile and cordage; 1 fixed blade knife with full tang; 7 samples of textile fragments; 3 pieces of textile, leather, and organic material; 3 samples of textile and leather fragments; 1 knife blade with rust fragments; 1 sample of knife handle fragments; 1 rivet; 24 kettle fragments; 4 unperforated brass triangles; 1 silver clipping; 1 sample of cordage fragments; 1 sample of cordage; 28 hawk bell fragments; 1 bell clapper; 6 solder fragments; 1 shaped sheet of brass; 1 iron awl with bone handle and coat button attached; 1 button; 1 butt cone; 1 non-human, possibly modified bone fragment; 15 brass fragments; 1 sample of iron fragments; 1 wire; and 12 samples of water screened residual portion of soil.

A nearby 18th century Ottawa grave demonstrates that this part of the island may have been occupied and used as a burial area by the Ottawa until around the time of the 1795 Treaty of Greenville. Audubon Island is located in the lower Maumee Valley in northern Ohio. Some Ottawa bands had taken up residence in the lower Maumee Valley by A.D. 1740-1750. Following Pontiac's siege of Detroit in the summer of 1763, some of the Ottawa bands from that area also resettled to the lower Maumee Valley. In 1764, Captain Thomas Morris met an Ottawa delegation at the foot of the Maumee Rapids, adjacent to Audubon Island. Between 1783 and 1794, Audubon Island was known as Col. McKee's Island, and was farmed as part of Alexander McKee's Department of Indian Affairs post at the foot of the Maumee Rapids. Several other Euro-Canadian traders occupied lands in the area, presumably with the consent of the local Ottawa.

In 1795, many of the Great Lakes-Ohio Valley tribes signed the Treaty of Greenville, which produced several land cession, including a 12-square-mile reserve surrounding the foot of the Maumee Rapids and Audubon Island. Occupation of Audubon Island by the Ohio Ottawa appears to have ceased at that time, at which point some of them moved to Walpole Island, Canada. Between 1807 and 1817, the United States established four small reservations for the Ottawa along the lower Maumee River. Audubon Island lies between two of these reservations. In 1831 to 1833, the four reservations were finally ceded to the United States in return for lands in present-day Franklin County, KS. In 1867, the Kansas reservation organization was dissolved and the Ottawa sold their individual allotments and moved to Oklahoma. Descendants of the Ottawa that occupied Audubon Island are members of the Ottawa Tribe of Oklahoma.

Determinations Made by Metroparks Toledo

Officials of Metroparks Toledo have determined that:

• Pursuant to 25 U.S.C. 3001(9), the human remains described in this notice represent the physical remains of one individual of Native American ancestry.

• Pursuant to 25 U.S.C. 3001(3)(A), the 3,049 objects described in this notice are reasonably believed to have been placed with or near individual human remains at the time of death or later as part of the death rite or ceremony.

• Pursuant to 25 U.S.C. 3001(2), there is a relationship of shared group identity that can be reasonably traced between the Native American human remains and associated funerary objects and the Ottawa Tribe of Oklahoma.

Additional Requestors and Disposition

Lineal descendants or representatives of any Indian tribe or Native Hawaiian organization not identified in this notice that wish to request transfer of control of these human remains and associated funerary objects should submit a written request with information in support of the request Joseph Fausnaugh, Metroparks of the Toledo Area, 5100 West Central Avenue, Toledo, OH 43615, telephone (419) 407-9700, email joe.fausnaugh@metroparkstoledo.com, by February 13, 2017. After that date, if no additional requestors have come forward, transfer of control of the human remains and associated funerary objects to the Ottawa Tribe of Oklahoma may proceed.

Metroparks Toledo is responsible for notifying the Eastern Shawnee Tribe of Oklahoma, the Miami Tribe of Oklahoma, the Ottawa Tribe of Oklahoma, the Shawnee Tribe, and the Wyandotte Nation that this notice has been published.

Dated: December 20, 2016.
Melanie O'Brien,
Manager, National NAGPRA Program.

[FR Doc. 2017-00509 Filed 1-11-17; 8:45 am]

BILLING CODE 4312-52-P